DEPARTMENT OF THE INTERIOR

Fish and Wildlife Service

Denial of Permit for Marine Mammals

On December 7, 2000, a notice was published in the Federal Register, Vol. 65, No. 236, Page 76662, that an application had been filed with the Fish and Wildlife Service by Nathan P. Newbern, Ft. Worth, Texas, for a permit (PRT-035772) to import a polar bear (Ursus maritimus) sport hunted from the Lancaster Sound polar bear population, Canada for personal use.

Notice is hereby given that on March 22, 2001, as authorized by the provisions of the Marine Mammal Protection Act of 1972, as amended (16 U.S.C. 1361 et seq.) the Fish and Wildlife Service denied the requested permit.

Documents and other information submitted for this application is available for review by any party who submits a written request to the U.S. Fish and Wildlife Service, Division of Management Authority, 4401 North Fairfax Drive, Rm 700, Arlington, Virginia 22203, phone (703) 358-2104 or Fax (703) 358-2281.

Dated: March 23, 2001.
Anna Barry,
Senior Permit Biologist, Branch of Permits, Division of Management Authority.

[FR Doc. 01-8081 Filed 4-2-01; 8:45 am]

BILLING CODE 4310-55-U